ENVIRONMENTAL PROTECTION AGENCY

[Regional Docket Nos. V-2008-2, FRL-8985-3]

Clean Air Act Operating Permit Program; Petition for Objection to State Operating Permit for BP Products North America, Inc., Whiting Business Unit

AGENCY: Environmental Protection Agency (EPA).

ACTION: Notice of final order on petition to object to Clean Air Act (Act) operating permit.

SUMMARY: This document announces that the Administrator of EPA has responded to a petition submitted by the Environmental Law and Policy Center, Hoosier Environmental Council, Natural Resources Defense Council, Save the Dunes, Sierra Club, Susan Eleuterio, and Tom Tsourlis (petitioners) asking EPA to object to an operating permit issued by the Indiana Department of Environmental Management to the BP Products North America, Inc., Whiting Business Unit (Whiting). The Administrator granted the petition in part and denied it in part.

Pursuant to section 505(b)(2) of the Act, a petitioner may seek in the United States Court of Appeals for the appropriate circuit judicial review of those portions of a petition which EPA denied. Any petition for review shall be filed within 60 days from the date this notice appears in the Federal Register, pursuant to section 307 of the Act.

ADDRESSES: You may review copies of the final order, the petition, and other supporting information at the EPA Region 5 Office, 77 West Jackson Boulevard, Chicago, Illinois 60604. If you wish to examine these documents, you should make an appointment at least 24 hours before visiting the EPA office. Additionally, the final order for the Whiting petition is available electronically at: http://www.epa.gov/region07/programs/artd/air/title5/petitiondb/petitiondb.htm.

FOR FURTHER INFORMATION CONTACT: Pamela Blakley, Chief, Air Permits Section, Air Programs Branch, Air and Radiation Division, EPA, Region 5, 77 West Jackson Boulevard, Chicago, Illinois 60604, telephone (312) 886-4447.

SUPPLEMENTARY INFORMATION: The Act affords EPA a 45-day period to review, and object, as appropriate, to operating permits proposed by State permitting authorities. Section 505(b)(2) of the Act authorizes any person to petition the EPA Administrator within 60 days after the expiration of the EPA review period to object to a State operating permit if EPA has not done so. A petition must be based only on objections to the permit that were raised with reasonable specificity during the public comment period provided by the State, unless the petitioner demonstrates that it was impracticable to raise issues during the comment period, or the grounds for the issues arose after this period.

On August 19, 2008, EPA received a petition requesting that EPA object to the Title V operating permit for Whiting. The Petitioners allege that the permit is not in compliance with the requirements of the Act.

Specifically, the Petitioners allege that: (1) The permit application lacks emission information and calculations critical for determining applicable requirements and setting appropriate limits and conditions; (2) the minor source permit fails to comply with New Source Review requirements because the project is a major modification when all project emissions are properly included; (3) the permit does not include applicable Best Available Control Technology and Lowest Achievable Emission Rate limits for flares and other sources; (4) BP and IDEM failed to conduct the proper greenhouse gas Best Achievable Control Technology analysis; and (5) the permit omits compliance schedules that Title V requires to ensure compliance with all applicable requirements, as supported by the Notice of Violation issued by EPA to BP for its Whiting refinery.

On October 16, 2009, the Administrator issued an order granting the Whiting petition in part and denying it in part. The order explains the reasons behind EPA's conclusions.

Dated: November 9, 2009.
Bharat Mathur,
Acting Regional Administrator, Region 5.

[FR Doc. E9-28266 Filed 11-24-09; 8:45 am]

BILLING CODE 6560-50-P